DEPARTMENT OF THE INTERIOR

Fish and Wildlife Service

Notice of Availability of the Recovery Plan for the Endangered Catesbaea melanocarpa

AGENCY: Fish and Wildlife Service, Interior.

ACTION: Notice of document availability.

SUMMARY: We, the Fish and Wildlife Service, announce the availability of the final recovery plan for Catesbaea melanocarpa (no common name). This endangered plant species is a small spiny shrub of the family Rubiacea. It is extremely rare and is known from Puerto Rico, St. Croix in the U.S. Virgin Islands, Barbuda, Antigua, and Guadeloupe. The recovery plan includes specific recovery goal/objectives and criteria to be met to delist Catesbaea melanocarpa under the Endangered Species Act of 1973, as amended.

ADDRESSES: Copies of this recovery plan are available on the Internet at http://endangered.fws.gov/recovery/index.html#plans or by request from the Caribbean Field Office, U.S. Fish and Wildlife Service, P.O. Box 491, Boquerón, Puerto Rico 00622 (telephone 787/851-7297).

FOR FURTHER INFORMATION CONTACT: Marelisa Rivera at the above address (telephone 787/851-7297, ext. 231).

SUPPLEMENTARY INFORMATION:

Background

Catesbaea melanocarpa belongs to a genus that consists of ten or more species of spiny shrubs. Catesbaea melanocarpa is extremely rare and is known from Puerto Rico, St. Croix in the U.S. Virgin Islands (USVI), Barbuda, Antigua, and Guadeloupe. In the U.S. Caribbean, it is known from only one individual in Cabo Rojo, Puerto Rico, and approximately 100 individuals in one location in St. Croix, USVI. Little information is available regarding the status of the species in Barbuda, Antigua, and Guadalupe. The two currently known locations in Puerto Rico and the USVI are privately-owned, and are subject to development pressure for residential and tourism projects. The risk of extinction is high because so few individuals of Catesbaea melanocarpa are known to occur in limited areas. Additionally, the species is threatened by catastrophic natural events, such as hurricanes, as well as human induced fires. Catesbaea melanocarpa was listed as endangered under the Endangered Species Act of 1973, as amended (16 U.S.C. 1531 et seq.) (Act) on March 17, 1999 (64 FR 13116).

Restoring an endangered or threatened animal or plant to the point where it is again a secure, self-sustaining member of its ecosystem is a primary goal of our endangered species program. To help guide the recovery effort, we prepare recovery plans for most listed species. Recovery plans describe actions considered necessary for conservation of the species, establish criteria for downlisting or delisting them, and estimate time and cost for implementing recovery measures.

The Act requires the development of recovery plans for listed species unless such a plan would not promote the conservation of a particular species. Section 4(f) of the Act requires us to provide public notice and an opportunity for public review and comment during recovery plan development. A notice of availability of the technical agency draft recovery plan for Catesbaea melanocarpa was published in the Federal Register on September 27, 2004 (69 FR 57712). A 60-day comment period was opened with the notice, closing on November 26, 2004. We received comments from two interested parties and from two experts on Catesbaea melanocarpa who served as peer reviewers of the recovery plan. On April 19, 2005, we published in the Federal Register a notice of reopening the comment period for the agency draft recovery plan to solicit comments on revised “Recovery Goal” and “Recovery Criteria” sections (70 FR 20396). A 30-day comment period was opened with the notice, closing on May 19, 2005. We received comments from two interested parties. Comments and information submitted were considered in the preparation of this final plan and, where appropriate, incorporated.

Recovery Plan

The objective of this recovery plan is to provide a framework for the recovery of Catesbaea melanocarpa so that protection under the Act is no longer necessary. As recovery criteria are met, the status of the species will be reviewed, and it will be considered for reclassification to threatened status or for removal from the Federal List of Endangered and Threatened Wildlife and Plants (50 CFR part 17).

The information on the current number of individuals throughout the species' range, and the knowledge of biology, habitat requirements, and genetic information is limited. However, the Service has developed downlisting and delisting criteria for Catesbaea melanocarpa. These criteria are intended to provide long-term sustainability of the endangered Catesbaea melanocarpa. Long term sustainability requires adequate reproduction for replacement of losses due to natural mortality factors (including disease and stochastic events), sufficient genetic robustness to avoid inbreeding depression and allow adaptation, sufficient habitat for long term population maintenance, and elimination or control of threats.

Downlisting of the species from endangered to threatened status will be considered when: (1) The habitat known to support the two extant populations (St. Croix and Peñones de Melones) is enhanced and protected through landowner conservation agreements or easements; (2) extant populations are enhanced through the planting of additional propagated individuals to augment the number of adult individuals to at least 250; (3) at least one population within each of the following previously occupied habitat is found and/or established: Guánica Commonwealth Forest (PR), Susúa Commonwealth Forest (PR), Barbuda, Antigua, and Guadalupe; and (4) research is conducted on key biological and genetic issues, including effective propagation techniques, and number of individuals within a population and number of populations needed for the establishment of self-sustaining populations and a viable overall population.

Catesbaea melanocarpa will be considered for delisting when: (1) A number of viable populations (to be determined following the appropriate studies) are protected by long term conservation strategies; (2) viable populations (the number of which should be determined following the appropriate studies) are established in previously unoccupied but suitable habitat at Sandy Point National Wildlife Refuge (USVI), Cabo Rojo National Wildlife Refuge (PR), La Tinaja in Sierra Bermeja (Laguna Cartagena National Wildlife Refuge, PR), and any other identified suitable conservation area within the dry forest zone; and (3) the numbers of populations, their sizes, genetic makeup and distribution needed to ensure self-sustainability are determined and achieved.

In an effort to meet the recovery criteria, the following recovery actions were identified. The Recovery Plan breaks these actions down further into specific tasks.

1. Protect existing populations (St. Croix and Cabo Rojo) from current and future threats and/or limiting factors through landowner agreements and other conservation mechanisms.

2. Determine the distribution and population status of Catesbaea melanocarpa throughout its present and historic range, including Barbuda, Antigua, and Guadalupe.

3. Evaluate techniques and develop a plant propagation program for Catesbaea melanocarpa.

4. Enhance existing populations and establish new self-sustaining populations (number of which should be determined by viability analysis) within protected areas by introducing additional individuals developed through propagation. Introduction sites may include, but are not limited to, the Guánica Commonwealth Forest, Susúa Commonwealth Forest, Sandy Point National Wildlife Refuge, and Cabo Rojo National Wildlife Refuge.

5. Conduct additional scientific research on Catesbaea melanocarpa.

6. Facilitate the recovery of Catesbaea melanocarpa through public awareness and education.

7. Provide technical assistance to Barbuda, Antigua, and Guadalupe for the development of conservation measures for the species.

8. Refine recovery criteria.

Authority

The authority for this action is section 4(f) of the Act, 16 U.S.C. 1533(f).

Dated: July 11, 2005.
Cynthia K. Dohner,
Acting Regional Director.

[FR Doc. 05-16372 Filed 8-17-05; 8:45 am]

BILLING CODE 4310-55-P